DEPARTMENT OF HOMELAND SECURITY

Federal Emergency Management Agency

[Docket ID: FEMA-2024-0006; OMB No. 1660-0110]

Agency Information Collection Activities: Submission for OMB Review, Comment Request; Nonprofit Security Grant Program (NSGP) Investment Justification & NSGP Prioritization Tracker

AGENCY: Federal Emergency Management Agency, Department of Homeland Security.

ACTION: 30-day notice of extension and request for comments.

SUMMARY: The Federal Emergency Management Agency (FEMA) will submit the information collection abstracted below to the Office of Management and Budget for review and clearance in accordance with the requirements of the Paperwork Reduction Act of 1995. The submission will describe the nature of the information collection, the categories of the respondents, the estimated burden (i.e., the time, effort and resources used by respondents to respond) and cost, and the actual data collection instruments FEMA will use.

DATES: Comments must be submitted on or before June 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address: FEMA-Information-Collections-Management@fema.dhs.gov or Mark Silveira, Branch Chief, FEMA Grant Programs Directorate, Preparedness Grants Program, 202-786-9598 mark.silveira@fema.dhs.gov.

SUPPLEMENTARY INFORMATION: This proposed information collection previously published in the Federal Register on February 9, 2024, at 89 FR 9167 with a 60-day public comment period. No comments were received. The purpose of this notice is to notify the public that FEMA will submit the information collection abstracted below to the Office of Management and Budget for review and clearance.

Collection of Information

Title: FEMA Preparedness Grants: Nonprofit Security Grant Program (NSGP).

Type of Information Collection: Extension of a currently approved information collection.

OMB Number: 1660-0110.

FEMA Forms: FEMA Form FF-207-FY-21-115 (formally 089-25), NSGP Investment Justification; FEMA Form FF-207-FY-21-114 (formerly 089-24), NSGP Prioritization of Investments Tracker.

Abstract: The Nonprofit Security Grant Program provides funding support for security related enhancements to nonprofit organizations that are at high risk of a terrorist or other extremist attack. The program seeks to integrate the preparedness activities of nonprofit organizations that are at high risk of a terrorist or other extremist attack with broader State and local preparedness efforts. The NSGP Investment Justification summarizes the nonprofit organization's mission, vulnerability assessment, and proposed project(s) details. The Prioritization of Investments Tracker is for State Administrative Agencies to use to prioritize which NSGP subapplicants/projects are recommended for funding.

Affected Public: State, local or Tribal governments; not for profits.

Estimated Number of Respondents: 6,056.

Estimated Number of Responses: 6,056.

Estimated Total Annual Burden Hours: 24,840.

Estimated Total Annual Respondent Cost: $803,862.

Estimated Respondents' Operation and Maintenance Costs: $0.

Estimated Respondents' Capital and Start-Up Costs: $0.

Estimated Total Annual Cost to the Federal Government: $354,515.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-10782 Filed 5-15-24; 8:45 am]

BILLING CODE 9111-78-P